DEPARTMENT OF COMMERCE

National Oceanic and Atmospheric Administration

50 CFR Part 635

[Docket No. 110210132-1275-02]

RIN 0648-XA550

Atlantic Highly Migratory Species; Atlantic Bluefin Tuna Fisheries; Northern Area Trophy Fishery

AGENCY: National Marine Fisheries Service (NMFS), National Oceanic and Atmospheric Administration (NOAA), Commerce.

ACTION: Closure.

SUMMARY: NMFS closes the northern area Angling category fishery for large medium and giant (“trophy”) Atlantic bluefin tuna (BFT) for the remainder of 2011. This action is being taken to prevent overharvest of the 2011 Angling category northern area subquota for large medium and giant BFT.

DATES: Effective 11:30 p.m., local time, July 29, 2011 through December 31, 2011.

FOR FURTHER INFORMATION CONTACT: Sarah McLaughlin or Brad McHale, 978-281-9260.

SUPPLEMENTARY INFORMATION: Regulations implemented under the authority of the Atlantic Tunas Convention Act (16 U.S.C. 971 et seq.) and the Magnuson-Stevens Fishery Conservation and Management Act (Magnuson-Stevens Act; 16 U.S.C. 1801 et seq.) governing the harvest of BFT by persons and vessels subject to U.S. jurisdiction are found at 50 CFR part 635. Section 635.27 subdivides the U.S. BFT quota recommended by the International Commission for the Conservation of Atlantic Tunas (ICCAT) among the various domestic fishing categories, consistent with the allocations established in the 2006 Consolidated Highly Migratory Species Fishery Management Plan (2006 Consolidated HMS FMP) (71 FR 58058, October 2, 2006) and subsequent rulemaking.

NMFS is required, under § 635.28(a)(1), to file a closure notice with the Office of the Federal Register for publication when a BFT quota is reached or is projected to be reached. On and after the effective date and time of such notification, for the remainder of the fishing year, or for a specified period as indicated in the notification, fishing for, retaining, possessing, or landing BFT under that quota category is prohibited until the opening of the subsequent quota period or until such date as specified in the notice.

The 2011 BFT quota specifications established a quota of 1.4 mt of large medium and giant BFT (measuring 73 inches curved fork length or greater) to be harvested in the northern area, i.e., north of 39°18′ N. lat. (off Great Egg Inlet, NJ) by vessels permitted in the HMS Angling or Charter/Headboat category (while fishing recreationally) (76 FR 39019, July 5, 2011). Earlier this year, NMFS announced two Angling category BFT fishery inseason actions, effective April 2, 2011: a change to the daily retention limit and closure of the southern area trophy fishery (76 FR 18416, April 4, 2011). Based on the best available BFT landings information for the trophy BFT fishery, NMFS has determined that the northern area trophy BFT subquota will be reached by July 29, 2011. Therefore, through December 31, 2011, fishing for, retaining, possessing, or landing large medium or giant BFT north of 39°18′ N. lat. by persons aboard vessels permitted in the HMS Angling category and the HMS Charter/Headboat category (while fishing recreationally) must cease at 11:30 p.m. local time on July 29, 2011. Limited catch and release is permissible as specified under § 635.26(a) and described below. This action is taken consistent with the regulations at § 635.28(a)(1). The intent of this closure is to prevent overharvest of the Angling category northern area trophy BFT subquota.

Anglers are reminded that all non-tournament BFT landed under the Angling category quota must be reported within 24 hours of landing either online at http://www.hmspermits.gov or by calling (888) 872-8862. In Maryland and North Carolina, vessel owners must report their recreational tuna landings at state-operated reporting stations. For additional information on these programs, including reporting station locations, please call (410) 213-1351 (Maryland) or (800) 338-7804 (North Carolina).

Anglers may catch and release (or tag and release) BFT of all sizes, subject to the requirements of the catch-and-release and tag-and-release programs at § 635.26. Anglers are also reminded that all BFT that are released must be handled in a manner that will maximize survivability, and without removing the fish from the water, consistent with requirements at § 635.21(a)(1). For additional information on safe handling, see the Careful Catch and Release brochure available at http://www.nmfs.noaa.gov/sfa/hms/.

If needed, subsequent Angling category adjustments will be published in the Federal Register. In addition, fishermen may call the Atlantic Tunas Information Line at (888) 872-8862 or (978) 281-9260, or access http://www.hmspermits.gov, for updates.

Classification

The Assistant Administrator for NMFS (AA) finds that it is impracticable and contrary to the public interest to provide prior notice of, and an opportunity for public comment on, this action for the following reasons:

The regulations implementing the Consolidated HMS FMP provide for inseason retention limit adjustments to respond to the unpredictable nature of BFT availability on the fishing grounds, the migratory nature of this species, and the regional variations in the BFT fishery. The closure of the northern area Angling category trophy fishery is necessary to prevent overharvest of the Angling category northern area trophy BFT subquota. NMFS provides notification of closures by publishing the notice in the Federal Register, e-mailing individuals who have subscribed to the Atlantic HMS News electronic newsletter, and updating the information posted on the Atlantic Tunas Information Line and on http://www.hmspermits.gov.

These fisheries are currently underway and delaying this action would be contrary to the public interest as it could result in excessive BFT landings that may result in future potential quota reductions for the Angling category. NMFS must close the northern area trophy BFT fishery before additional landings of the size BFT accumulate. Therefore, the AA finds good cause under 5 U.S.C. 553(b)(B) to waive prior notice and the opportunity for public comment. For all of the above reasons, there is good cause under 5 U.S.C. 553(d) to waive the 30-day delay in effectiveness.

This action is being taken under 50 CFR 635.28(a)(1), and is exempt from review under Executive Order 12866.

Authority: 16 U.S.C. 971 et seq. and 1801 et seq.

Dated: July 22, 2011.
Emily H. Menashes,
Acting Director, Office of Sustainable Fisheries, National Marine Fisheries Service.

[FR Doc. 2011-19010 Filed 7-26-11; 8:45 am]

BILLING CODE 3510-22-P